NATIONAL WOMEN'S BUSINESS COUNCIL

Sunshine Act Notice

ACTION: Notice of meeting.

SUMMARY: In accordance with 15 U.S.C. 7106(b), the National Women's Business Council (NWBC) announces a forthcoming meeting. The meeting will cover action items worked on by the NWBC, will be used to gather information on future NWBC endeavors (including research projects), to analyze relevant issues and facts, and discuss administrative matters of the committee. Although the regulations implementing the Federal Advisory Committee Act do not require notification of meetings adjourned to discuss pre-deliberative or administrative work, the NWBC would like to open the meeting to the public and therefore notify the public of the time and place.

DATES: September 17, 2002.

ADDRESSES: U.S. Small Business Administration, 409 Third Street, SW., Eisenhower Conference Room A 2nd Floor, Washington, DC 10 a.m. to 1 p.m.

STATUS: Open to the public.

CONTACT: National Women's Business Council, 409 Third Street, Suite 210, Washington, DC 20024, (202) 205-6695—Gilda Presley.

Note: Please RSVP by September 16, 2002.

Gilda Presley,
Administrative Officer, National Women's Business Council.

[FR Doc. 02-22790 Filed 9-4-02; 11:17 am]

BILLING CODE 6820-AB-M